DEPARTMENT OF ENERGY

Federal Energy Regulatory Commission

Supplemental Notice of Technical Conference

| Docket Nos.
PJM Interconnection, L.L.C | ER15-2562-000.
| ER15-2563-000.
Consolidated Edison Company of New York, Inc. v. PJM Interconnection, L.L.C | EL15-18-001.
Linden VFT, LLC v. PJM Interconnection, L.L.C | EL15-67-000.
Delaware Public Service Commission and Maryland Public Service Commission v. PJM Interconnection, L.L.C | EL15-95-000.
PJM Interconnection, L.L.C | ER14-972-003.
PJM Interconnection, L.L.C | ER14-1485-005.
| Not Consolidated.

As noticed on December 4, 2015, the Commission has directed Commission staff to conduct a technical conference in the above-referenced proceedings. The technical conference is scheduled for January 12, 2016, at the Commission's headquarters at 888 First Street NE., Washington, DC 20426 between 10:00 a.m. and 4:00 p.m. (Eastern Time).

In an order dated November 24, 2015,¹ the Commission found that the assignment of cost allocation for the projects in the filings and complaints listed in the caption using PJM's solution-based distribution factor (DFAX) cost allocation method had not been shown to be just and reasonable and may be unjust, unreasonable, or unduly discriminatory or preferential. The Commission directed its staff to establish a technical conference to explore both whether there is a definable category of reliability projects within PJM for which the solution-based DFAX cost allocation method may not be just and reasonable, such as projects addressing reliability violations that are not related to flow on the planned transmission facility, and whether an alternative just and reasonable ex ante cost allocation method could be established for any such category of projects.

¹ PJM Interconnection, L.L.C., et al., 153 FERC ¶ 61,245 (2015) (November 2015 Order).

An agenda with the list of selected speakers and presentations is attached and will be available on the web calendar on the Commission's Web site, www.ferc.gov. A schedule for post-technical conference comments will be established at the technical conference.

The technical conference is open to the public. The Chairman and Commissioners may attend and participate in the technical conference.

Pre-registration through the Commission's Web site https://www.ferc.gov/whats-new/registration/01-12-16-form.asp is encouraged, to help ensure sufficient seating is available.

This conference will also be transcribed. Interested persons may obtain a copy of the transcript for a fee by contacting Ace-Federal Reporters, Inc. at (202) 347-3700.

In addition, there will be a free audio cast of the conference. Anyone wishing to listen to the meeting should send an email to Sarah McKinley at sarah.mckinley@ferc.gov by January 5, 2016, to request call-in information. Please reference “call information for PJM cost allocation technical conference” in the subject line of the email. The call-in information will be provided prior to the meeting.

Persons listening to the technical conference may participate by submitting questions, either prior to or during the technical conference, by emailing PJMDFAXconfDL@ferc.gov.

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference, please contact PJMDFAXconfDL@ferc.gov; or Sarah McKinley, 202-502-8368, sarah.mckinley@ferc.gov, regarding logistical issues.

Dated: December 30, 2015.
Nathaniel J. Davis, Sr.,
Deputy Secretary.

[FR Doc. 2015-33228 Filed 1-5-16; 8:45 am]

BILLING CODE 6717-01-P